DEPARTMENT OF ENERGY

Federal Energy Regulatory Commission

[Project No. 14790-000]

City of Tuscaloosa, Alabama; Notice of Preliminary Permit Application Accepted for Filing and Soliciting Comments and Motions To Intervene

On June 29, 2016, the City of Tuscaloosa, Alabama filed an application for a preliminary permit, pursuant to section 4(f) of the Federal Power Act (FPA), proposing to study the feasibility of the Lake Tuscaloosa Dam Hydroelectric Project (Lake Tuscaloosa Project or project) to be located on the North River, near the City of Tuscaloosa in Tuscaloosa County, Alabama. The sole purpose of a preliminary permit, if issued, is to grant the permit holder priority to file a license application during the permit term. A preliminary permit does not authorize the permit holder to perform any land-disturbing activities or otherwise enter upon lands or waters owned by others without the owners' express permission.

The proposed project would consist of the following: (1) The City of Tuscaloosa's existing 1,280-foot-long, 36-foot-wide earth filled embankment dam; (2) a reservoir with a surface area of 5,885 acres and a storage capacity of 122,755-acre-feet; (3) a 20-foot-long, 96-foot-wide intake channel; (4) a 200-foot-long, 66-inch-diameter penstock with a 66-inch-diameter butterfly valve at the junction of the existing outlet; (5) a powerhouse containing one generating unit with a total capacity of 3.0 megawatts; (6) a 540-foot-long, 20-foot-wide tailrace; and (7) a 3.9-mile-long, 15 kV transmission line. The proposed project would have an estimated average annual generation of 18,207 megawatt-hours.

Applicant Contact: Mr. Scott B. Holmes, City of Tuscaloosa., 2201 University Blvd., Tuscaloosa, Alabama 35401; Phone (205) 248-5140; Email: sholmes@tuscaloosa.com

FERC Contact: Christiane Casey, christiane.casey@ferc.gov, (202) 502-8577.

Competing Application: This application competes with Project No. 14750-000 filed December 22, 2015. Competing applications had to be filed on or before June 30, 2016.

Deadline for filing comments and motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14790) in the docket number field to access the document. For assistance, contact FERC Online Support.

Dated: October 25, 2016.
Kimberly D. Bose,
Secretary.

[FR Doc. 2016-26189 Filed 10-28-16; 8:45 am]

BILLING CODE 6717-01-P